DEPARTMENT OF COMMERCE

National Oceanic and Atmospheric Administration

[I.D. 122005B]

Endangered Species; File No. 1557

AGENCY: National Marine Fisheries Service (NMFS), National Oceanic and Atmospheric Administration (NOAA), Commerce.

ACTION: Notice; receipt of application.

SUMMARY: Notice is hereby given that Molly Lutcavage, Department of Biology, 177 A Spaulding Hall, University of New Hampshire, Durham, NH 03824-2617, has applied in due form for a permit to take leatherback (Dermochelys coriacea) sea turtles for purposes of scientific research.

DATES: Written, telefaxed, or e-mail comments must be received on or before February 6, 2006.

ADDRESSES: The application and related documents are available for review upon written request or by appointment in the following office(s):

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9328; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1557.

FOR FURTHER INFORMATION CONTACT: Patrick Opay or Kate Swails, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The primary purpose of the proposed research would be to investigate leatherback sea turtle behavior and movements in near-shore waters off the northeastern United States and to identify their dispersal in relation to oceanographic conditions and fishing activities. The research would also help establish baseline health assessments, genetic identities, sex ratios, and stable isotope composition of leatherback sea turtle tissues and prey. Researchers propose to conduct research on up to 12 leatherback sea turtles annually. Researchers would use animals that have been disentangled from fishing gear by the stranding network or they would capture the animals using a breakaway hoopnet. Turtles would be measured, weighed, photographed and video taped, flipper and passive integrated transponder (PIT) tagged, blood sampled, cloacal swabbed, skin sampled, tagged with electronic instruments (e.g., satellite transmitters), and released. The research permit would be issued for 5 years.

Dated: December 30, 2005.
Shane Guan,
Acting Chief, Permits, Conservation and Education Division, Office of Protected Resources, National Marine Fisheries Service.

[FR Doc. E6-17 Filed 1-5-06; 8:45 am]

BILLING CODE 3510-22-S